DEPARTMENT OF TRANSPORTATION

Federal Aviation Administration

14 CFR Part 158

[Docket No. FAA-2002-13918; Notice No. 02-19]

RIN 2120-AH43

Revisions to Passenger Facility Charge Rule for Compensation to Air Carriers; Extension of Comment Period

AGENCY: Federal Aviation Administration (FAA), DOT.

ACTION: Notice of proposed rulemaking (NPRM); extension of comment period.

SUMMARY: This action extends the comment period for an NPRM the FAA issued on November 20, 2002. In that document, the FAA proposed to amend the passenger facility charge regulation (PFC) by changing the amount and unit of collection that a carrier may retain for collecting and handling PFC revenue. This extension is a result of a joint request from the American Association of Airport Executives (AAAE) and the Airports Council International—North America (ACI-NA).

DATES: Send your comments on or before February 12, 2003.

ADDRESSES: Address your comments to the Docket Management System, U.S. Department of Transportation, Room Plaza 401, 400 Seventh Street, SW., Washington, DC 20590-0001. You must identify the docket number FAA-2002-13918 at the beginning of your comments, and you should send two copies of your comments. If you wish to receive confirmation that FAA received your comments, include a self-addressed, stamped postcard.

You may also send comments through the Internet to http://dms.dot.gov. You may review the public docket containing comments to these proposed regulations in person in the Docket Office between 9 a.m. and 5 p.m., Monday through Friday, except Federal holidays. The Docket Office is on the plaza level of the NASSIF Building at the Department of Transportation at the above address. Also, you may review public dockets on the Internet at http://dms.dot.gov.

FOR FURTHER INFORMATION CONTACT: Joseph Hebert, Passenger Facility Charge Branch, APP-530, Federal Aviation Administration, 800 Independence Ave., SW., Washington, DC 20591; telephone: (202) 267-3845, facsimile (202) 267-5302.

SUPPLEMENTARY INFORMATION:

Comments Invited

The FAA invites interested persons to participate in this rulemaking by submitting written comments, data, or views. We also invite comments about the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel about this proposed rulemaking. The docket is available for public inspection before and after the comment closing date. If you wish to review the docket in person, go to the address in the ADDRESSES section of this preamble between 9 a.m. and 5 p.m., Monday through Friday, except Federal holidays. You may also review the docket using the Internet at the web address in the ADDRESSES section.

Before acting on this proposal, we will consider all comments we receive on or before the closing date for comments. We will consider comments filed late if it is possible to do so without incurring expense or delay. We may change this proposal because of the comments we receive.

If you want the FAA to acknowledge receipt of your comments on this proposal, include with your comments a pre-addressed, stamped postcard on which the docket number appears. We will stamp the date on the postcard and mail it to you.

Background

On November 20, 2002, the FAA issued Notice No. 02-19, Revisions to Passenger Facility Charge Rule for Compensation to Air Carriers (67 FR 70878, November 27, 2002). Comments to that document were to be received on or before January 13, 2003.

On December 20, 2002, AAAE and ACI-NA jointly asked the FAA to extend the comment period to Notice No. 02-19 an additional 120 days. In the request, AAAE and ACI-NA note that air carriers had six years to collect economic data presented in the proposal supporting their request for an increase in PFC handling charges. AAAE and ACI-NA assert that 45 days is not enough time for other interested parties to review and comment on the air carrier economic data, especially since two holidays fell within the comment period.

In response to the AAAE and ACI-NA joint request for an extension of the comment period, the Air Transport Association (ATA) submitted a letter to the public docket on December 30, 2002, urging FAA to deny the request for an extension. ATA asserts that the air carrier data was compiled using procedures recommended by the Department of Transportation Office of the Inspector General. ATA contends that the data is reliable and finds that additional time to review the data is not necessary.

The FAA has considered these arguments and finds that an extension of the comment period to Notice No. 02-19 is in the public interest considering that two holidays fell within the comment period. However, the FAA believes that a 120-day extension would be excessive. The FAA believes an additional 30 days would be adequate for interested parties to review the economic data presented in the proposal and provide meaningful comment to Notice No. 02-19. Absent unusual circumstances, the FAA does not anticipate any further extension of the comment period for this rulemaking.

Extension of Comment Period

In accordance with § 11.47(c) of Title 14, Code of Federal Regulations, the FAA has reviewed AAAE's and ACI-NA's joint request for an extension of the comment period to Notice No. 02-09. The FAA finds that extension of the comment period is consistent with the public interest, and that good cause exists for taking this action. AAAE and ACI-NA have demonstrated substantive interest in the proposed rule and good cause for the extension.

Accordingly, the comment period to Notice No. 02-19 is extended until February 12, 2003.

Issued in Washington, DC, January 10, 2003.
Benito DeLeon,
Acting Director, Office of Airport Planning and Programming.

[FR Doc. 03-820 Filed 1-10-03; 12:04 pm]

BILLING CODE 4910-13-P